Title 3—

The President

Notice of October 17, 2005

Intention To Enter Into a Free Trade Agreement With Oman

Consistent with section 2105(a)(1)(A) of the Trade Act of 2002, I have notified the Congress of my intention to enter into a Free Trade Agreement (FTA) with the Sultanate of Oman.

Consistent with section 2105(a)(1)(A) of that Act, this notice shall be published in the Federal Register.

B

THE WHITE HOUSE,

October 17, 2005.

[FR Doc. 05-21053

Filed 10-18-05; 9:34 am]

Billing code 3190-01-P